FEDERAL ACCOUNTING STANDARDS ADVISORY BOARD

Notice of New Exposure Draft Change in Certain Requirements for Reconciling Obligations and Net Cost of Operations—Amendment of SFFAS 7, Accounting for Revenue and Other Financing Sources

AGENCY: Federal Accounting Standards Advisory Board.

Board Action: Pursuant to the Federal Advisory Committee Act (Pub. L. No. 92-463), as amended, and the FASAB Rules of Procedure, as amended in October, 1999, notice is hereby given that the Federal Accounting Standards Advisory Board has published a new exposure draft, Change in Certain Requirements for Reconciling Obligations and Net Cost of Operations—Amendment to SFFAS 7, Accounting for Revenue and Other Financing Sources.

A summary of the proposed Statement follows: On April 12, 2001, the Federal Accounting Standards Advisory Board (FASAB) released for public comment an exposure draft (ED) to amend Statement of Federal Financial Accounting Standards (SFFAS) 7, Accounting for Revenue and Other Financing Sources and Concepts for Reconciling Budgetary and Financial Accounting. The Chairman of the Federal Accounting Standards Advisory Board announced that the FASAB has issued an exposure draft of a proposed standard affecting the presentation of the reconciliation of obligations and the net cost of operations in the statement of financing. The new standard would delete the requirement to report changes in certain receivables from the public as a resource on the statement of financing. The effect of the change is that the location of this item in the statement of financing is no longer specified by the standard. The Board is deferring a final solution regarding the placement of this element until it can be addressed within the context of a fuller review of the statement of financing. In the interim, flexibility will be permitted by the amended standard. The exposure draft entitle Change in Certain Requirements for Reconciling Obligations and Net Cost of Operations, Amendment of SFFAS 7, Accounting for Revenue and Other Financing Sources, will be out for comment until June 8, 2001. The proposed amendment of SFFAS No. 7 would be effective for periods beginning after September 30, 2000.

The exposure draft will be mailed to FASAB's mailing list subscribers. Additionally, it is available on FASAB's home page http://www.financenet.gov/fasab.htm. Copies fan be obtained by contacting FASAB at (202) 512-7350, or fontenroser.fasab@gao.gov. For further information call Richard Fontenrose (202) 512-7358.

Written comments are requested by June 8, 2001, and should be sent to: Wendy M. Comes, Executive Director, Federal Accounting Standards Advisory Board, 441 G Street, NW, Suite 6814, Mail Stop 6K17V, Washington, DC 20548.

FOR FURTHER INFORMATION CONTACT: Wendy Comes, Executive Director, 441 G St., NW., Room 6814, Washington, DC 20548, or call (202) 512-7350.

Authority: Federal Advisory Committee Act. Pub. L. No. 92-463.

Dated: April 19, 2001.
Wendy M. Comes,
Executive Director.

[FR Doc. 01-10147 Filed 4-23-01; 8:45 am]

BILLING CODE 1610-01-M